NATIONAL FOUNDATION ON THE ARTS AND THE HUMANITIES

Institute of Museum and Library Services

Notice of Proposed Information Collection Requests: Gathering Community Spotlights To Highlight Efforts of Local Practitioners To Improve Information Literacy: Collection Process To Populate Community Spotlights

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this proposed information collection is to gather Community Spotlights from local practitioners known to be successfully building information literacy in their communities and to publish the Community Spotlights on InformationLiteracy.gov for Gathering Community Spotlights to Highlight Efforts of Local Practitioners to Improve Information Literacy: Collection Process to Populate Community Spotlights. A copy of the proposed information collection request can be obtained by contacting the individual listed below in the ADDRESSES section of this Notice.

DATES: Written comments must be submitted to the office listed in the ADDRESSES section below on or before August 4, 2024.

ADDRESSES: Send comments to Julie Balutis, Director of Grants Policy and Management, Office of Grants Policy and Management, Institute of Museum and Library Services, 955 L'Enfant Plaza North SW, Suite 4000, Washington, DC 20024-2135. Ms. Balutis can be reached by telephone: 202-653-4645, or by email at jbalutis@imls.gov. Office hours are from 8:30 a.m. to 5 p.m., E.T., Monday through Friday, except federal holidays. Persons who are deaf or hard of hearing (TTY users) can contact IMLS at 202-207-7858 via 711 for TTY-Based Telecommunications Relay Service.

FOR FURTHER INFORMATION CONTACT: Katherine Maas, Chief of Staff, Institute of Museum and Library Services, 955 L'Enfant Plaza North SW, Suite 4000, Washington, DC 20024-2135. Ms. Maas can be reached by telephone at 202-653-4798, or by email at infolit@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

IMLS is the primary source of federal support for the Nation's libraries and museums. We advance, support, and empower America's museums, libraries, and related organizations through grant making, research, and policy development. To learn more, visit www.imls.gov.

II. Current Actions

IMLS, in conjunction with the Information Literacy Taskforce (Taskforce), is leading an initiative to develop guidance, instructional materials, and national strategies on Information Literacy. IMLS seeks to gather Community Spotlights from their network of local practitioners known to be successfully building information literacy in their communities and to publish the Community Spotlights on InformationLiteracy.gov. This network of local practitioners includes IMLS grantees, Taskforce member agency grantees, and knowledge sharing cohort members and recruitment lists. IMLS is seeking approval to gather information from 3 organizations per quarter. All participation is strictly voluntary.

Agency: Institute of Museum and Library Services.

Title: Gathering Community Spotlights to Highlight Efforts of Local Practitioners to Improve Information Literacy: Collection Process to Populate Community Spotlights.

OMB Control Number: 3137-NEW.

Agency Number: 3137.

Respondents/Affected Public: IMLS will seek to collect Community Spotlights from grantees, Taskforce member agency grantees, and knowledge sharing cohort members and recruitment lists. Examples of practitioners doing this work are museum workers and librarians.

Total Estimated Number of Annual Respondents: 75.

Frequency of Response: Once per request.

Estimated Average Time Burden per Response: 50 minutes.

Total Estimated Number of Annual Burden Hours: 45.

Total Annual Cost Burden: $1,508.40.

Total Annual Federal Costs: $41,762.88.

Public Comments Invited: Comments submitted in response to this Notice will be summarized and/or included in the request for OMB's clearance of this information collection.

Dated: May 30, 2024.
Suzanne Mbollo,
Grants Management Specialist, Institute of Museum and Library Services.

[FR Doc. 2024-12242 Filed 6-3-24; 8:45 am]

BILLING CODE 7036-01-P